DEPARTMENT OF HOMELAND SECURITY

Coast Guard

33 CFR Part 117

[Docket No. USCG-2017-0322]

Drawbridge Operation Regulation; Hillsborough River, Tampa, FL

AGENCY: Coast Guard, DHS.

ACTION: Notice of deviation from drawbridge regulation.

SUMMARY: The Coast Guard has issued a temporary deviation from the operating schedule that governs the operation of the Hillsborough Bridge across the Hillsborough River, Tampa, Florida. This deviation is necessary to allow the bridge owner, Florida Department of Transportation to repair the Hillsborough Bridge. Due to the type of repairs this bridge will be required to remain closed to navigation until all components can be removed and replaced.

DATES: This deviation is effective from 7 a.m. on May 10, 2017, until 7 p.m. on June 21, 2017.

ADDRESSES: The docket for this deviation, [USCG-2017-0322] is available at http://www.regulations.gov. Type the docket number in the “SEARCH” box and click “SEARCH”. Click on Open Docket Folder on the line associated with this deviation.

FOR FURTHER INFORMATION CONTACT: If you have questions on this temporary deviation, call or email Mr. Eddie Lawrence with the Seventh Coast Guard District Bridge Office; telephone 305-415-6946, email Eddie.H.Lawrence@uscg.mil.

SUPPLEMENTARY INFORMATION: Florida Department of Transportation, the bridge owner, has requested a temporary deviation from the operating schedule of the Hillsborough Bridge across the Hillsborough River, Tampa, Florida to conduct needed repairs. The Florida Department of Transportation advised “the work is not an emergency but is needed now as the original counterweight cables from 1939 are at the end of their service life. It is not possible to remove the counterweight cables and keep the bridge in operation at the same time”; the Coast Guard has taken this into consideration prior to allowing this closure. This temporary deviation will impact navigation since no vessel with a height greater than 10 feet will be able to pass during this closure period. Not allowing the necessary bridge repairs will also have an impact to navigation. The current operating regulation is under 33 CFR 117.291.

Vessels able to pass through the bridge in the closed position may do so at any time The bridge will not be able to open for emergencies and there is no immediate alternate route for vessels to pass through the bridge in closed positions. The Coast Guard will also inform the users of the waterways through Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 24, 2017.
Barry Dragon,
Director, Bridge Branch, Seventh Coast Guard District.

[FR Doc. 2017-08579 Filed 4-27-17; 8:45 am]

BILLING CODE 9110-04-P